DEPARTMENT OF TRANSPORTATION

Federal Aviation Administration

[Docket No. FAA-2022-0553; Summary Notice No. 2022-28]

Petition for Exemption; Summary of Petition Received; Trans Executive Airlines of Hawaii d/b/a Transair Express

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before July 18, 2022.

ADDRESSES: Send comments identified by docket number FAA-2022-0553 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Andrew Thai at (202) 267-0175, Office of Rulemaking, Federal Aviation Administration, 800 Independence Avenue SW, Washington, DC 20591.

This notice is published pursuant to 14 CFR 11.85.

Issued in Washington, DC.
Timothy R. Adams,
Deputy Executive Director, Office of Rulemaking.

Petition for Exemption

Docket No.: FAA-2022-0553.

Petitioner: Trans Executive Airlines of Hawaii d/b/a Transair Express.

Section(s) of 14 CFR Affected: § 60.17.

Description of Relief Sought: Transair Express and several other operators continue to operate the SD3-60 aircraft, but there is only one remaining SD3-60 flight simulator in operation. Once withdrawn from operation, and without a suitable FAA-certified simulator available, FAA-certified SD3-60 operators would be forced to conduct required flight crew training onboard aircraft during flights. This situation would negatively impact aviation safety, increase public risk, and ultimately degrade readiness for U.S. and allied military customers. Transair Express therefore seeks an exemption from certain requirements of 14 CFR part 60 to enable the continuing qualification of the SD3-60 flight simulator and an extension of the time period allowed to requalify the simulator to March 31, 2023. The grant of this exemption will allow Transair Express and other SD3-60 operators to continue to provide training for their flight crews and provide access to training to other FAA-certified Shorts SD3-60 operators.

[FR Doc. 2022-13601 Filed 6-24-22; 8:45 am]

BILLING CODE 4910-13-P